Title 3—

The President

Proclamation 8678 of May 18, 2011

National Maritime Day, 2011

By the President of the United States of America

A Proclamation

In times of peace or war, the civilians serving in the United States Merchant Marine have helped keep our Nation safe and prosperous. We depend on these men and women serving on our ships and tugs, in our ports and shipyards, close to home or far at sea, to connect businesses, service members, and citizens around the world. On National Maritime Day, we honor their invaluable contributions to America’s economic strength and security.

On May 22, 1819, the SS Savannah completed the first successful voyage by a steam powered ship across the Atlantic, shepherding in a new age of maritime travel and transport. By the 20th century, the United States maritime trade was booming, fostering exchanges across the world and aiding our military at war. During World War II, Merchant Marines were critical in providing necessary supplies and services to troops abroad, while suffering an extraordinarily high death rate. Hundreds of merchant ships fell to enemy action, and nearly one in thirty mariners did not return home.

United States flag vessels and those who operate them continue to be an integral part of our military operations overseas. They support operations in Iraq and Afghanistan, as well as humanitarian aid missions and disaster relief efforts. Without the steadfast commitment of our mariners, our Nation would not be as prepared to deal with unforeseen events, conflicts, or crises. Their bravery and valor make our waterways safer and more efficient every day.

Today, our maritime industry is a valuable source of skilled employment for American workers, contributing billions of dollars to our economy. It is also a critical part of our transportation system. Last year, my Administration implemented “America’s Marine Highway Program,” an effort that enables American businesses to participate in improving the safety and environmental sustainability of our waterways. Our mariners’ continued work is helping American industry remain competitive in the global economy, pushing us toward a more prosperous and free 21st century.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2011, as National Maritime Day. I call upon the people of the United States to mark this observance and to display the flag of the United States at their homes and in their communities. I also request that all ships sailing under the American flag dress ship on that day.

IN WITNESS WHEREOF, I have hereunto set my hand this eighteenth day of May, in the year of our Lord two thousand eleven, and of the Independence of the United States of America the two hundred and thirty-fifth.

[FR Doc. 2011-12982

Filed 5-23-11; 8:45 am]

Billing code 3195-W1-P